DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection package requests a three-year extension of “Industrial Relations,” OMB Control Number 1910-0600. This proposed collection covers major Department contractor Human Resource information necessary for contract management, administration, and cost control.

DATES: Comments regarding this collection must be received on or before April 24, 2015. If you anticipate that you will be submitting comments, but find it difficult to do so within the period of time allowed by this notice, please advise the Desk Officer for the Department of Energy of your intention to make a submission as soon as possible.

ADDRESSES: Written comments should be sent to:

Attention Desk Officer for DOE, Office of Information and Regulatory Affairs (OIRA), Office of Management and Budget, New Executive Office Building, Room 10202, 725 17th St. NW., Washington, DC 20503-0009, or by email at OIRA_submission@omb.eop.gov; and to

Robert M. Myers, U.S. Department of Energy, 1000 Independence Avenue SW., Washington, DC 20585-1615, 202-287-1584, or by email at robert.myers@hq.doe.gov.

FOR FURTHER INFORMATION CONTACT: Requests for additional information or copies of the information collection instrument and instructions should be directed to Robert Myers at the address listed above.

SUPPLEMENTARY INFORMATION: This information collection request contains:

(1) OMB No. 1910-0600;

(2) Information Collection Request Title: Industrial Relations;

(3) Type of Request: Renewal;

(4) Purpose: This information is required for management oversight of the Department of Energy's Facilities Management Contractors and to ensure that the programmatic and administrative management requirements of the contracts are managed efficiently and effectively;

(5) Annual Estimated Number of Respondents: 329;

(6) Annual Estimated Number of Total Responses: 329;

(7) Annual Estimated Number of Burden Hours: 8,062;

(8) Annual Estimated Reporting and Recordkeeping Cost Burden: $0.

Authority: 42 U.S.C. 7256; 48 CFR 970.0370-1.

Issued in Washington, DC, on March 17, 2015.
Patrick M. Ferraro,
Deputy Director, Office of Acquisition and Project Management.

[FR Doc. 2015-06807 Filed 3-24-15; 8:45 am]

BILLING CODE 6450-01-P